FEDERAL COMMUNICATIONS COMMISSION

[CC Docket No. 96-45; FCC 00-359]

Federal-State Joint Board on Universal Service; Petition for Forbearance by Operator Communications, Inc. d/b/a Oncor Communications, Inc.

AGENCY: Federal Communications Commission.

ACTION: Notice.

SUMMARY: In this document, the Commission extends until February 20, 2001 the date on which the petition requesting forbearance filed on November 22, 1999 by Operator Communications, Inc., d/b/a Oncor Communications, Inc. (“Oncor”), shall be deemed granted in the absence of a Commission decision that the petition fails to meet the standard for forbearance under the Act.

DATES: Effective December 11, 2000.

FOR FURTHER INFORMATION CONTACT: Praveen Goyal, Attorney, Common Carrier Bureau, Accounting Policy Division, (202) 418-7400.

SUPPLEMENTARY INFORMATION: This is a summary of the Commission's document in CC Docket No. 96-45 released on October 12, 2000. The full text of this document is available for public inspection during regular business hours in the FCC Reference Center, Room CY-A257, 445 Twelfth Street, SW., Washington, DC, 20554.

I. Introduction

1. In this Order, pursuant to section 10(c) of the Communications Act of 1934, as amended (Act), we extend until February 20, 2001 the date on which the petition requesting forbearance filed on November 22, 1999 by Operator Communications, Inc., d/b/a Oncor Communications, Inc. (“Oncor”), shall be deemed granted in the absence of a Commission decision that the petition fails to meet the standard for forbearance under section 10(a) of the Act.

II. Oncor Petition for Forbearance

2. On November 22, 1999, Operator Communications, Inc., d/b/a Oncor Communications, Inc. (Oncor), filed a petition for forbearance from enforcement of §§ 54.709 and 54.711 of the Commission's rules (not published in the Federal Register). Oncor requests that, for its end-user telecommunications revenues subject to universal service contributions for the years 1998, 1999, and 2000, Oncor be assessed universal service contributions based on its current revenues for those years rather than revenues from the prior year.

3. Section 10(c) of the Communications Act states that a petition for forbearance shall be deemed granted if the Commission does not deny the petition for failure to meet the requirements for forbearance under section 10(a) within one year after the Commission receives it, unless the one-year period is extended by the Commission. The Commission may extend the initial one-year period by an additional 90 days if the Commission finds that an extension is necessary to meet the requirements of section 10(a).

4. Oncor's petition raises significant questions regarding whether forbearance from the enforcement of §§ 54.709 and 54.711 of the Commission's rules meets the statutory requirements set forth in section 10(a). We find that a 90-day extension is warranted under section 10.

III. Ordering Clauses

5. Pursuant to section 10 of the Communications Act of 1934, as amended, 47 U.S.C. 160, that the date on which the above-captioned request for forbearance shall be deemed granted in the absence of a Commission denial of the request for failure to meet the statutory standards for forbearance, is extended to February 20, 2001.

Federal Communications Commission.
Magalie Roman Salas,
Secretary.

[FR Doc. 00-28727 Filed 11-8-00; 8:45 am]

BILLING CODE 6712-01-P